DEPARTMENT OF ENERGY

Federal Energy Regulatory Commission

Combined Notice of Filings #1

Take notice that the Commission received the following electric corporate filings:

Docket Numbers: EC11-72-000.

Applicants: Synergics Roth Rock Wind Energy, LLC, Synergics Roth Rock North Wind Energy, LLC, Gestamp Eolica S.L.

Description: Application of Synergics Roth Rock Wind Energy, LLC, et. al. for Authorization of Transaction Pursuant to Sec 203 of the Federal Power Act and Request for Confidential Treatment of Transaction Documents, Expedited Consideration and Waivers.

Filed Date: 04/19/2011.

Accession Number: 20110419-5210.

Comment Date: 5 p.m. Eastern Time on Tuesday, May 10, 2011.

Take notice that the Commission received the following electric rate filings:

Docket Numbers: ER11-3394-000.

Applicants: Tampa Electric Company.

Description: Tampa Electric Company submits tariff filing per 35.13(a)(2)(iii: Rate Schedule No. 6 with FPC and Amendment of Exhibit A to be effective 3/1/2011.

Filed Date: 04/19/2011.

Accession Number: 20110419-5188.

Comment Date: 5 p.m. Eastern Time on Tuesday, May 10, 2011.

Docket Numbers: ER11-3395-000.

Applicants: El Paso Electric Company.

Description: El Paso Electric Company submits tariff filing per 35.13(a)(2)(iii: Second Regional Transmission Service Experiment Tariff to be effective 7/1/2011.

Filed Date: 04/19/2011.

Accession Number: 20110419-5192.

Comment Date: 5 p.m. Eastern Time on Tuesday, May 10, 2011.

Docket Numbers: ER11-3396-000.

Applicants: Southern California Edison Company.

Description: Southern California Edison Company submits tariff filing per 35.13(a)(2)(iii: SGIA WDT SERV AG-Photon Solar 810 Wanamaker Ave Ontario Roof Top Solar Project to be effective 4/21/2011.

Filed Date: 04/20/2011.

Accession Number: 20110420-5001.

Comment Date: 5 p.m. Eastern Time on Wednesday, May 11, 2011.

Docket Numbers: ER11-3397-000.

Applicants: Southern California Edison Company.

Description: Southern California Edison Company submits tariff filing per 35.13(a)(2)(iii: SGIA WDT SERV AG Photon Solar 4850 E Airport Dr Ontario Roof Top Solar Project to be effective 4/21/2011.

Filed Date: 04/20/2011.

Accession Number: 20110420-5002.

Comment Date: 5 p.m. Eastern Time on Wednesday, May 11, 2011.

Docket Numbers: ER11-3398-000.

Applicants: Southern California Edison Company.

Description: Southern California Edison Company submits tariff filing per 35.13(a)(2)(iii: SGIA WDT SERV AG Photon Solar 1751-1753 S Point Ontario Roof Top Solar Project to be effective 4/21/2011.

Filed Date: 04/20/2011.

Accession Number: 20110420-5003.

Comment Date: 5 p.m. Eastern Time on Wednesday, May 11, 2011.

Docket Numbers: ER11-3399-000.

Applicants: Southern California Edison Company.

Description: Southern California Edison Company submits tariff filing per 35.13(a)(2)(iii: SGIA WDT SERV AG Photon Solar 8865 Utica Rancho Cucamonga Roof Top Solar Project to be effective 4/21/2011.

Filed Date: 04/20/2011.

Accession Number: 20110420-5004.

Comment Date: 5 p.m. Eastern Time on Wednesday, May 11, 2011.

Docket Numbers: ER11-3400-000.

Applicants: PJM Interconnection, L.L.C.

Description: PJM Interconnection, L.L.C Notice of Cancellation of WMPA—Original Service Agreement No. 2705.

Filed Date: 04/20/2011.

Accession Number: 20110420-5060.

Comment Date: 5 p.m. Eastern Time on Wednesday, May 11, 2011.

Docket Numbers: ER11-3401-000.

Applicants: Golden Spread Panhandle Wind Ranch, LLC.

Description: Golden Spread Panhandle Wind Ranch, LLC submits tariff filing per 35.1: Market-Based Rate Application to be effective 6/15/2011.

Filed Date: 04/20/2011.

Accession Number: 20110420-5070.

Comment Date: 5 p.m. Eastern Time on Wednesday, May 11, 2011.

Docket Numbers: ER11-3402-000.

Applicants: Tampa Electric Company.

Description: Tampa Electric Company submits tariff filing per 35.13(a)(2)(iii: Emergency Interchange Service Schedule A&B to be effective 5/1/2011.

Filed Date: 04/20/2011.

Accession Number: 20110420-5093.

Comment Date: 5 p.m. Eastern Time on Wednesday, May 11, 2011.

Docket Numbers: ER11-3403-000.

Applicants: Tampa Electric Company.

Description: Tampa Electric Company submits tariff filing per 35.13(a)(2)(iii: Emergency Interchange Service Contract with Southern Company to be effective 5/1/2011.

Filed Date: 04/20/2011.

Accession Number: 20110420-5094.

Comment Date: 5 p.m. Eastern Time on Wednesday, May 11, 2011.

Docket Numbers: ER11-3404-000.

Applicants: EnergyUSA-TPC Corporation

Description: Notice of Cancellation of Market-Based Rate Tariff of EnergyUSA-TPC Corporation.

Filed Date: 04/19/2011

Accession Number: 20110419-5214

Comment Date: 5 p.m. Eastern Time on Tuesday, May 10, 2011.

Docket Numbers: ER11-3405-000

Applicants: EverPower Wind Holdings, Inc.

Description: EverPower Wind Holdings, Inc. submits tariff filing per 35.12: Petition of EverPower Wind Holdings For Order Accepting Market-Based Rate Tariff to be effective 7/1/2011.

Filed Date: 04/20/2011

Accession Number: 20110420-5111

Comment Date: 5 p.m. Eastern Time on Wednesday, May 11, 2011.

Docket Numbers: ER11-3406-000

Applicants: Highland North LLC

Description: Highland North LLC submits tariff filing per 35.12: Petition of Highland North LLC For Order Accepting Market-Based Rate Tariff to be effective 7/1/2011.

Filed Date: 04/20/2011

Accession Number: 20110420-5119

Comment Date: 5 p.m. Eastern Time on Wednesday, May 11, 2011.

Docket Numbers: ER11-3407-000

Applicants: Howard Wind LLC

Description: Howard Wind LLC submits tariff filing per 35.12: Petition of Howard Wind LLC For Order Accepting Market-Based Rate Tariff to be effective 7/1/2011.

Filed Date: 04/20/2011

Accession Number: 20110420-5120

Comment Date: 5 p.m. Eastern Time on Wednesday, May 11, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 20, 2011.
Nathaniel J. Davis, Sr.,
Deputy Secretary.

[FR Doc. 2011-10062 Filed 4-26-11; 8:45 am]

BILLING CODE 6717-01-P